ENVIRONMENTAL PROTECTION AGENCY

[FRL-7239-6]

National Advisory Council for Environmental Policy and Technology

AGENCY: Environmental Protection Agency (EPA).

ACTION: Notice of meeting.

SUMMARY: Under the Federal Advisory Committee Act, P.L. 92463, EPA gives notice of a meeting of the National Advisory Council for Environmental Policy and Technology (NACEPT). NACEPT provides advice and recommendations to the Administrator of EPA on a broad range of environmental policy and management issues.

NACEPT consists of a representative cross-section of EPA's partners and principle constituents who provide advice and recommendations on policy issues and serve as a sounding board for new strategies that the Agency is developing.

NACEPT will discuss a number of issues, including emerging trends facing the agency, environmental technology, and other program office initiatives. In addition, NACEPT will report on the work and status of subcommittees and workgroups.

DATES: NACEPT will hold a two-day public meeting on Thursday, July 18, 2002, from 8:30 a.m to 5 p.m., and Friday, July 19, 2002, from 8:30 a.m. to 4 p.m.

ADDRESSES: The meeting will be held at the Hotel Washington at 515 15th Street NW., Washington, DC. The meeting is open to the public, with limited seating on a first-come, first-served basis.

FOR FURTHER INFORMATION CONTACT: Mark Joyce, Designated Federal Officer, U.S. EPA, Office of Cooperative Environmental Management, at (202) 564-9802.

Meeting Access: Individuals requiring special accommodation at this meeting, including wheelchair access, should contact Mark Joyce at least five business days prior to the meeting so that appropriate arrangements can be made.

Dated: June 21, 2002.
Mark Joyce,
Designated Federal Officer.

[FR Doc. 02-16462 Filed 6-28-02; 8:45 am]

BILLING CODE 6560-50-P